EXPORT-IMPORT BANK

[Public Notice: 2021-3002]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the paperwork Reduction Act of 1995.

DATES: Comments must be received on or before July 30, 2021 to be assured of consideration.

ADDRESSES: Comments may be submitted electronically on WWW.REGULATIONS.GOV or to Tom Fitzpatrick tom.fitzpatrick@exim.gov, 202-565-3642. Export-Import Bank of the United States, 811 Vermont Ave. NW, Washington, DC 20571.

Comments submitted in response to this notice may be made available to the public through the WWW.REGULATIONS.GOV. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: To request additional information, please Tom Fitzpatrick tom.fitzpatrick@exim.gov, 202-565-3642.

SUPPLEMENTARY INFORMATION: The application tool can be reviewed at: https://www.exim.gov/sites/default/files//forms/eib92-29.pdf.

The Export-Import Bank of the United States, pursuant to the Export-Import Bank Act of 1945, as amended (12 U.S.C. 635, et seq.), facilitates the finance of the export of U.S. goods and services. The “Report of Premiums Payable for Exporters Only” form will be used by exporters to report and pay premiums on insured shipments to various foreign buyers.

Title and Form Number: EIB 92-29 Export-Import Bank Report of Premiums Payable for Exporters Only.

OMB Number: 3048-0017.

Type of Review: Renewal.

Need and Use: The “Report of Premiums Payable for Exporters Only” form is used by exporters to report and pay premiums on insured shipments to various foreign buyers under the terms of the policy and to certify that premiums have been correctly computed and remitted. The `Report of Premiums Payable for Exporters Only' is used by EXIM to determine the eligibility of the shipment(s) and to calculate the premium due to EXIM for its support of the shipment(s) under its insurance program.

Affected Public: This form affects entities involved in the export of U.S. goods and services.

Monthly Number of Respondents: 2,600.

Estimated Time per Respondent: 15 minutes.

Annual Burden Hours: 7,800 hours.

Frequency of Reporting or Use: Monthly.

Government Expenses:

Reviewing Time per Year: 7,800 hours.

Average Wages per Hour: $42.50.

Average Cost per Year: $331,500.

Benefits and Overhead: 20%.

Total Government Cost: $397,800.

Bassam Doughman,
IT Specialist.

[FR Doc. 2021-13969 Filed 6-29-21; 8:45 am]

BILLING CODE 6690-01-P